DEPARTMENT OF HEALTH AND HUMAN SERVICES

National Institutes of Health

National Library of Medicine; Cancellation of Meeting

Notice is hereby given of the cancellation of the PubMed Central National Advisory Committee, May 6, 2002, 9:30 a.m. to May 6, 2002, 4 p.m., National Library of Medicine, Board Room, Building 38, 2E09, 8600 Rockville Pike, Bethesda, MD, 20894 which was published in the Federal Register on March 18, 2002, 67 FR 12032.

The meeting is cancelleld due to the fact that issues of concern to the Committee need further development before the next meeting is convened.

Dated: May 2, 2002.
LaVerne Y. Stringfield,
Director, Office of Federal Advisory Committee Policy.

[FR Doc. 02-11682 Filed 5-9-02; 8:45 am]

BILLING CODE 4140-01-M